INTERNATIONAL TRADE COMMISSION

[Investigation Nos. 701-TA-742-745 and 731-TA-1720-1723 (Final)]

Hard Empty Capsules From Brazil, China, India, and Vietnam; Revised Schedule for the Subject Proceeding

AGENCY: United States International Trade Commission.

ACTION: Notice.

DATES: December 10, 2025.

FOR FURTHER INFORMATION CONTACT: Julie Duffy ((202) 708-2579), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this proceeding may be viewed on the Commission's electronic docket (EDIS) at https://edis.usitc.gov.

SUPPLEMENTARY INFORMATION: Effective May 29, 2025, the Commission established a schedule for the conduct of the subject proceeding (90 FR 27052, June 25, 2025). Due to the lapse in appropriations and ensuing cessation of Commission operations, the Commission issued a revised schedule (90 FR 52999, November 24, 2025). Due to the Department of Commerce's tolling of case deadlines by an additional 21 calendar days, the Commission is revising its schedule as follows: the additional deadline for filing supplemental briefs commenting on the Department of Commerce's final determinations is December 30, 2025; the Commission will make its final release of information on January 9, 2026; and final party comments are due on January 13, 2026.

For further information concerning this proceeding, see the Commission's notice cited above and the Commission's Rules of Practice and Procedure, part 201, subparts A and B (19 CFR part 201), and part 207, subparts A and C (19 CFR part 207).

Authority: This proceeding is being conducted under authority of title VII of the Tariff Act of 1930; this notice is published pursuant to section 207.21 of the Commission's rules.

By order of the Commission.
Issued: December 10, 2025.
Lisa Barton,
Secretary to the Commission.

[FR Doc. 2025-22747 Filed 12-12-25; 8:45 am]

BILLING CODE 7020-02-P